DEPARTMENT OF HOMELAND SECURITY

Coast Guard

33 CFR Part 165

[Docket Number USCG-2015-0118]

RIN 1625-AA00

Safety Zones, Recurring Marine Events Held in the Coast Guard Sector Long Island Sound Captain of the Port Zone

AGENCY: Coast Guard, DHS.

ACTION: Notice of proposed rulemaking.

SUMMARY: The Coast Guard proposes to add, delete, and modify safety zones for annual marine events in the Coast Guard Sector Long Island Sound Captain of the Port Zone. When enforced, these proposed safety zones would restrict vessels from portions of water areas during certain annually recurring events. The safety zones are intended to expedite public notification and ensure the protection of the maritime public and event participants from the hazards associated with certain maritime events. We invite your comments on this proposed rulemaking.

DATES: Comments and related material must be received by the Coast Guard on or before June 23, 2016.

ADDRESSES: You may submit comments identified by docket number USCG-2015-0118 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except federal holidays. The telephone number is 202-366-9329.

To avoid duplication, please use only one of these four methods. See the “Public Participation and Request for Comments” portion of the SUPPLEMENTARY INFORMATION section below for further instructions on submitting comments.

FOR FURTHER INFORMATION CONTACT: If you have questions about this proposed rulemaking, call or email Chief Petty Officer Ian M. Fallon, U.S. Coast Guard Waterways Management Division Sector Long Island Sound; telephone (203) 468-4565, or email Ian.M.Fallon@uscg.mil. If you have questions on viewing or submitting material to the docket, call Ms. Cheryl Collins, Program Manager, Docket Operations, telephone 202-366-9826.

SUPPLEMENTARY INFORMATION:

I. Table of Abbreviations

CFR Code of Federal Regulations

DHS Department of Homeland Security

E.O. Executive order

FR Federal Register

NPRM Notice of proposed rulemaking

Pub. L. Public Law

§ Section

U.S.C. United States Code

AOR Area of Responsibility

II. Background, Purpose, and Legal Basis

Previously, the Coast Guard promulgated safety zones for most of the events associated with this rule and received no public comments. The most recently promulgated rulemaking was on May 24, 2013 when the Coast Guard published a Final Rule, entitled, “Safety Zones and Special Local Regulations; Recurring Marine Events in Captain of the Port Sector Long Island Sound Zone” in the Federal Register (78 FR 31402).

The purpose of this rulemaking is to carry out three related actions: (1) Establishing new necessary safety zones, (2) removing safety zones that are no longer needed, and (3) updating and reorganizing existing regulations for ease of use and reduction of administrative overhead.

The Coast Guard proposes this rulemaking under authority in 33 U.S.C. 1231; 50 U.S.C. 191; 33 CFR 1.05-1, 6.04-1, 6.04-6, and 160.5; Department of Homeland Security Delegation No. 0170.1, which collectively authorize the Coast Guard to establish regulatory safety zones.

III. Discussion of Proposed Rule

The Coast Guard proposes to revise section 33 CFR 165.151 “Safety Zones; Fireworks Displays, Air Shows and Swim Events in the Captain of the Port Long Island Sound Zone” by establishing one new permanent safety zone, removing twenty-four existing safety zones, and modifying twenty existing safety zones. By proposing these permanent regulation updates, we are providing the public with an opportunity to comment on these changes. This rulemaking limits the unnecessary burden of continually establishing temporary rules every year for events that occur on an annual basis.

(1) Establishing New Marine Event Regulated Areas

This rule proposes to establish one new permanent marine event safety zone under 33 CFR 165.151. The events listed in the revised 33 CFR 165.151 table are all fireworks displays throughout the Sector Long Island Sound Captain of the Port Zone. The event created by this rule is 5.1 Bridgeport Bluefish May Fireworks. Event location and details are listed below in the text of the regulation. Due to the pyrotechnics detonation and burning debris, a safety zone is needed to protect both spectators and participants from the safety potential hazards. This rule would permanently establish a safety zone that restricts vessel movement around the location of the marine event to reduce the safety risks associated with it.

During the enforcement period of the safety zone, persons and vessels would be prohibited from entering, transiting through, remaining, anchoring, or mooring within the safety zone unless specifically authorized by the COTP or the designated representative. Persons and vessels would be able to request authorization to enter, transit through, remain, anchor, or moor within the safety zone by contacting the COTP Sector Long Island Sound by telephone at (203) 468-4401, or designated representative via VHF radio on channel 16. If authorization to enter, transit through, remain, anchor, or moor within the regulated area is granted, all persons and vessels receiving authorization would be required to comply with the instructions of the COTP or designated representative.

The Coast Guard COTP Sector Long Island Sound or designated representatives would enforce the safety zone. These designated representatives are comprised of commissioned, warrant, and petty officers of the Coast Guard. The Coast Guard may be assisted by other federal, state and local agencies in the enforcement of these safety zones.

(2) Remove Old Safety Zones That Are No Longer Needed

This rulemaking proposes to remove the following twenty-four safety zones from Table 1 to § 165.151: 5.1 Jones Beach Air Show, as the regulation will be moved to 33 CFR 100.100 at the Table to § 100.100. 5.2 Greenport Spring Fireworks, as the event has been discontinued. 7.2 Cancer Center for Kids Fireworks, as the event has not been held since 2011 and the sponsoring organization, The Friends of the Cancer Center for Kids, has confirmed that they do not intend to hold the event again in the foreseeable future. 7.10 City of New Haven Fireworks, as the event has not been held since 2008 and the sponsoring organization, the City of New Haven, has confirmed that they do not intend to hold the event again in the foreseeable future. 7.14 Fund in the Sun Fireworks, as the event has not been held since 2010 and the sponsoring organization, the Shelter Island Yacht Club, has confirmed that they do not intend to hold the event again in the foreseeable future. 7.19 Jones Beach State Park Fireworks, as the regulation will be moved to the 33 CFR 100.100 at the Table to § 100.100. 7.20 Madison Cultural Arts Fireworks, as the event has been discontinued. 7.22 Patchogue Chamber of Commerce Fireworks, as the event has been discontinued. 7.26 Village of Quoque Foundering Anniversary Fireworks, as the event has not been held since 2009 and the sponsoring organization, the Village of Quoque, has confirmed that they do not intend to hold the event again in the foreseeable future. 7.28 Great South Bay Music Festival Fireworks, as the event has been discontinued. 7.31 Clam Shell Foundation Fireworks, as the regulation will be moved to the table to 100.100. 7.32 Town of North Hempstead Bar Beach Fireworks, as the event is not in Sector Long Island Sound's AOR. 7.41 Niantic Bay Fireworks, as the event has been discontinued. 7.43 North Bay Fourth of July Fireworks, as the event has been discontinued. 7.46 Irwin family 4th of July, as the event has been discontinued. 7.47 Westbrook July Celebration, as this is a duplicate entry of 7.3 City of Westbrook, CT July Celebration Fireworks. 8.1 Village of Bellport Fireworks, as this is not a reoccurring event. 8.2 Taste of Italy Fireworks, as this is not a reoccuring event. 8.5 Shelter Island Yacht Club Fireworks, as the event has been discontinued. 9.2 Town of Islip Labor Day Fireworks, as the event has been discontinued. 9.5 Archangel Michael Greek Orthodox Church Fireworks, as the event is not in Sector Long Island Sound's AOR. 9.6 Port Washington Sons of Italy Fireworks, as the event is not in Sector Long Island Sound's AOR. 11.1 Charles W. Morgan Anniversary Fireworks, as the event has been discontinued. 12.1 Greenport Winter Fireworks, as the event has been discontinued.

This rulemaking also proposes to delete all seven of the safety zones from Table 2 to § 165.151: 1.1 Swim Across the Sound, as the regulation will be moved to 33 CFR 100.100 at the Table to § 100.100. 1.2 Huntington Bay Open Water Championships Swim, as the regulation will be moved to 33 CFR 100.100 at the Table to § 100.100. 1.3 Maggie Fischer Memorial Great South Bay Cross Bay Swim, as the regulation will be moved to 33 CFR 100.100 at the Table to § 100.100. 1.4 Waves of Hope Swim, as the regulation will be moved to 33 CFR 100.100 at the Table to § 100.100. 1.5 Stonewall Swim, as the regulation will be moved to 33 CFR 100.100 at the Table to § 100.100. 1.6 Swim Across America Greenwich, as the regulation will be moved to 33 CFR 100.100 at the Table to § 100.100. 1.7 US Coast Guard Triathlon Swim, as this is not a reoccurring event.

(3) Modify and Update Existing Regulated Areas

Due to the deletion of twenty-four cites within Table 1 to § 165.151, several of the remaining cites will be renumbered to fill the vacancies created by the deleted cites. The cite numbers used in this section reflect cite numbers as they are currently listed in Table 1 to § 165.151: 2.1 Sag Harbor COC Winter Harbor Frost Fireworks Date was updated for accuracy. 6.1 Barnum Festival Fireworks Location was updated for accuracy. 6.2 Town of Branford Fireworks Location was updated for accuracy. 6.3 Vietnam Veterans/Town of East Haven Fireworks Location was updated for accuracy. 6.4 Salute to Veterans Fireworks Location was updated for accuracy. 7.1 Point O'Woods Fire Company Summer Fireworks Location was updated for accuracy. 7.7 Southampton Fresh Air Home Fireworks Location was updated for accuracy. 7.9 City of Middletown Fireworks Location was updated for accuracy. 7.11 City of Norwich July Fireworks Location was updated for accuracy. 7.12 City of Stamford Fireworks Date was updated for accuracy. 7.13 City of West Haven Fireworks Date was updated for accuracy. 7.23 Riverfest Fireworks Date was removed due to the fact that the exact date in July would change annually. The public will be notified of the exact date and time annually. The Locations of the safety zones were updated for accuracy. 7.24 Village of Asharoken Fireworks Location was updated for accuracy. 7.25 Village of Port Jefferson Fourth of July Celebration Fireworks Location was updated for accuracy. 7.33 Groton Long Point Yacht Club Fireworks Location was updated for accuracy. 7.42 Connetquot River Summer Fireworks Location was updated for accuracy. 7.44 National Golf Links Fireworks Name is to be changed to Sebonack Golf Club Links Fireworks per the sponsor's request. 8.8 Ascension Fireworks Location was updated for accuracy. 9.1 East Hampton Fire Department Fireworks Location was updated for accuracy. 11.2 Christmas Boat Parade Fireworks barge Locations were updated for accuracy.

IV. Regulatory Analyses

We developed this proposed rule after considering numerous statutes and Executive orders (E.O.s) related to rulemaking. Below we summarize our analyses based on a number of these statutes and E.O.s, and we discuss First Amendment rights of protestors.

A. Regulatory Planning and Review

E.O.s 12866 and 13563 direct agencies to assess the costs and benefits of available regulatory alternatives and, if regulation is necessary, to select regulatory approaches that maximize net benefits. E.O. 13563 emphasizes the importance of quantifying both costs and benefits, of reducing costs, of harmonizing rules, and of promoting flexibility. This NPRM has not been designated a “significant regulatory action,” under E.O. 12866. Accordingly, the NPRM has not been reviewed by the Office of Management and Budget.

The Coast Guard determined that this proposed rulemaking is not a significant regulatory action for the following reasons: The safety zones are of limited duration and vessels may transit the navigable waterways outside of the safety zones. Persons or vessels requiring entry into the safety zones may be authorized to do so by the COTP Sector Long Island Sound or designated representative.

Advanced public notifications will also be made to local mariners through appropriate means, which may include but is not limited to Local Notice to Mariners and Broadcast Notice to Mariners.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under E.O. 13132, Federalism, if it has a substantial direct effect on the States, on the relationship between the national government and the States, or on the distribution of power and responsibilities among the various levels of government. We have analyzed this proposed rule under that Order and have determined that it is consistent with the fundamental federalism principles and preemption requirements described in E.O. 13132.

Also, this proposed rule does not have tribal implications under E.O. 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rulemaking elsewhere in this preamble.

F. Environment

We have analyzed this proposed rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. This proposed rule involves the establishment of safety zones. It is categorically excluded from further review under paragraph 34(g) of Figure 2-1 of Commandant Instruction M16475.lD. A preliminary environmental analysis checklist supporting this determination and a Categorical Exclusion Determination are available in the docket where indicated under ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We encourage you to participate in this rulemaking by submitting comments and related materials. All comments received will be posted without change to http://www.regulations.gov and will include any personal information you have provided.

A. Submitting Comments

If you submit a comment, please include the docket number for this rulemaking, indicate the specific section of this document to which each comment applies, and provide a reason for each suggestion or recommendation. To submit your comment online, go to http://www.regulations.gov, type the docket number in the “SEARCH” box and click “SEARCH.” Click on the comment option on the line associated with this NPRM. As stated in the ADDRESSES section, you may also submit your comments by fax, mail, or hand delivery. Please use only one of these four submittal methods.

We view public participation as essential to effective rulemaking, and will consider all comments and material received during the comment period. Your comment can help shape the outcome of this rulemaking. If you go to the online docket by following instructions in the next paragraph, and sign up for email alerts, you will be notified whenever comments are submitted or a final rule is published.

B. Viewing Comments and Documents

To view comments, as well as documents mentioned in this preamble as being available in the docket, go to http://www.regulations.gov, type the docket number in the “SEARCH” box and click “SEARCH.” Click on the Open Docket Folder option on the line associated with this notice of proposed rulemaking. You may also visit the Docket Management Facility in Room W12-140 on the ground floor of the Department of Transportation West Building, 1200 New Jersey Avenue SE., Washington, DC 20590, between 9 a.m. and 5 p.m., Monday through Friday, except Federal holidays.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316). We allow anonymous submissions.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Revise table 1 to § 165.151 and remove table 2 to § 165.151.

The revision reads as follows:

§ 165.151 Safety Zones; Fireworks Displays, Air Shows and Swim Events in the Captain of the Port Long Island Sound Zone.

* * * * *

Table to § 165.151
2 | February
2.1 Sag Harbor COC Winter Harbor Frost Fireworks | • Date: A day in February determined annually.
| • Rain Date: A day in February determined annually.
| • Time (Approximate): 5:30 p.m. to 6:45 p.m.
| • Location: Waters of Sag Harbor off Long Wharf St. Pier in Sag Harbor, NY in approximate position 41°00′16.82″ N., 072°17′43.78″ W. (NAD 83).
4 | April
4.1 Bridgeport Bluefish April Fireworks | • Date: A day in April determined annually.
| • Rain Date: A day in April determined annually.
| • Time (Approximate): 9:00 p.m. to 10:00 p.m.
| • Location: Waters of the Pequannock River's Lower Reach surrounding Steel Point in Bridgeport, CT in approximate position 41°10′35″ N., 073°10′58″ W. (NAD 83).
5 | May
5.1 Bridgeport Bluefish May Fireworks | • Date: A day in May determined annually.
| • Rain Date: A day in May determined annually.
| • Time (Approximate): 9:00 p.m. to 10:00 p.m.
| • Location: Waters of the Pequannock River's Lower Reach surrounding Steel Point in Bridgeport, CT in approximate position 41°10′35″ N., 073°10′58″ W. (NAD 83).
6 | June
6.1 Barnum Festival Fireworks | • Date: A day in June determined annually.
| • Rain Date: A day in June determined annually.
| • Time (Approximate): 9:30 p.m. to 10:00 p.m.
| • Location: Waters of Bridgeport Harbor, Bridgeport, CT in approximate position 41°09′34″ N., 073°11′18″ W. (NAD 83).
6.2 Town of Branford Fireworks | • Date: A day during the last two weeks of June.
| • Rain Date: A day in June determined annually.
| • Time (Approximate): 9:30 p.m. to 10:00 p.m.
| • Location: Waters of Branford Harbor, Branford, CT in approximate position, 41°15′37″ N., 072°49′15″ W. (NAD 83).
6.3 Vietnam Veterans/Town of East Haven Fireworks | • Date: A day during the last two weeks of June.
| • Rain Date: A day in June determined annually.
| • Time (Approximate): 9:30 p.m. to 10:30 p.m.
| • Location: Waters off Cosey Beach, East Haven, CT in approximate position, 41°14′31.7″ N., 072°52′16.4″ W. (NAD 83).
6.4 Salute to Veterans Fireworks | • Date: A day during the last week of June.
| • Rain Date: A day in June determined annually.
| • Time (Approximate): 9:30 p.m. to 10:00 p.m.
| • Location: Waters of Reynolds Channel off Hempstead, NY in approximate position 40°35′36.87″ N., 073°35′20.72″ W. (NAD 83).
6.5 Cherry Grove Arts Project Fireworks | • Date: A day during the first two weeks of June.
| • Time (Approximate): 9:30 p.m. to 10:00 p.m.
| • Location: Waters of the Great South Bay off Cherry Grove, NY in approximate position 40°39′ 49.06″ N., 073°05′27.99″ W. (NAD 83).
6.6 Bridgeport Bluefish June Fireworks | • Date: A day in June determined annually.
| • Rain Date: A day in June determined annually.
| • Time (Approximate): 9:00 p.m. to 10:00 p.m.
| • Location: Waters of the Pequannock River's Lower Reach surrounding Steel Point in Bridgeport, CT in approximate position 41°10′35″ N., 073°10′ 58″ W. (NAD 83).
7 | July
7.1 Point O'Woods Fire Company Summer Fireworks | • Date: A day during the first two weeks of July.
| • Time (Approximate): 9:30 p.m. to 10:00 p.m.
| • Location: Waters of the Great South Bay, Point O'Woods, NY in approximate position 40°39′27.28″ N., 073°08′20.98″ W. (NAD 83).
7.2 City of Westbrook, CT July Celebration Fireworks | • Date: A day during the first two weeks of July.
| • Time (Approximate): 9:30 p.m. to 10:00 p.m.
| • Location: Waters of Westbrook Harbor, Westbrook, CT in approximate position, 41°16′10.5″ N., 072°26′14″ W. (NAD 83).
7.3 Norwalk Fireworks | • Date: A day during the first two weeks of July.
| • Time (Approximate): 9:00 p.m. to 10:00 p.m.
| • Location: Waters off Calf Pasture Beach, Norwalk, CT in approximate position, 41°04′05″ N., 073°23′22″ W. (NAD 83).
7.4 Lawrence Beach Club Fireworks | • Date: A day during the first two weeks of July.
| • Time (Approximate): 9:30 p.m. to 10:00 p.m.
| • Location: Waters of the Atlantic Ocean off Lawrence Beach Club, Atlantic Beach, NY in approximate position 40°34′42.65″ N., 073°42′56.02″ W. (NAD 83).
7.5 Sag Harbor Fireworks | • Date: A day during the first two weeks of July.
| • Time (Approximate): 9:00 p.m. to 10:00 p.m.
| • Location: Waters of Sag Harbor Bay off Havens Beach, Sag Harbor, NY in approximate position 41°00′26″ N., 072°17′09″ W. (NAD 83).
7.6 Southhampton Fresh Air Home Fireworks | • Date: A day during the first two weeks of July.
| • Time (Approximate): 9:00 p.m. to 10:00 p.m.
| • Location: Waters of Shinnecock Bay, Southampton, NY in approximate positions, 40°51′49.14″ N., 072°26′31.48″ W. (NAD 83).
7.7 Westport Police Athletic league Fireworks | • Date: A day during the first two weeks of July.
| • Time (Approximate): 9:00 p.m. to 10:00 p.m.
| • Location: Waters off Compo Beach, Westport, CT in approximate position, 41°06′15″ N., 073°20′57″ W. (NAD 83).
7.8 City of Middletown Fireworks | • Date: A day during the first two weeks of July.
| • Time (Approximate): 9:00 p.m. to 10:00 p.m.
| • Location: Waters of the Connecticut River, Middletown Harbor, Middletown, CT in approximate position 41°33′47.5″ N., 072°38′38.39″ W. (NAD 83).
7.9 City of Norwich July Fireworks | • Date: A day during the first two weeks of July.
| • Time (Approximate): 9:00 p.m. to 10:00 p.m.
| • Location: Waters of the Thames River, Norwich, CT in approximate position, 41°31′14.19″ N., 072°04′43.23″ W. (NAD 83).
7.10 City of Stamford Fireworks | • Date: A day during the first two weeks of July.
| • Time (Approximate): 9:30 p.m. to 10:00 p.m.
| • Location: Waters of Fisher's Westcott cove, Stamford, CT in approximate position 41°02′09.56″ N., 073°30′57.76″ W. (NAD 83).
7.11 City of West Haven Fireworks | • Date: A day during the first two weeks of July.
| • Time (Approximate): 9:00 p.m. to 10:00 p.m.
| • Location: Waters of New Haven Harbor, off Bradley Point, West Haven, CT in approximate position 41°15′07″ N., 072°57′26″ W. (NAD 83).
7.12 Fairfield Aerial Fireworks | • Date: A day during the first two weeks of July.
| • Time (Approximate): 9:00 p.m. to 10:00 p.m.
| • Location: Waters of Jennings Beach, Fairfield, CT in approximate position 41°08′22″ N., 073°14′02″ W. (NAD 83).
7.13 Independence Day Celebration Fireworks | • Date: A day during the first two weeks of July.
| • Time (Approximate): 9:00 p.m. to 10:00 p.m.
| • Location: Waters off of Umbrella Beach, Montauk, NY in approximate position 41°01′44″ N., 071°57′13″ W. (NAD 83).
7.14 Mason's Island Yacht Club Fireworks | • Date: A day during the first two weeks of July.
| • Time (Approximate): 9:00 p.m. to 10:00 p.m.
| • Location: Waters of Fisher's Island Sound, Noank, CT in approximate position 41°19′30.61″ N., 071°57′48.22″ W. (NAD 83).
7.15 Riverfest Fireworks | • Date: A day in the second or third week of July.
| • Time (Approximate): 9:00 p.m. to 10:30 p.m.
| • Location: Waters of the Connecticut River, Hartford, CT and East Hartford, CT within a 1000 foot radius of the launch platforms in approximate positions:
| • Barge 1: 41°45′41.94″ N., 072°39′50.74″ W. (NAD 83).
| • Barge 2: 41°45′40.01″ N., 072°39′49.63″ W. (NAD 83).
| • Barge 3: 41°45′38.30″ N., 072°39′48.19″ W. (NAD 83).
| • Barge 4: 41°45′40.28″ N., 072°39′48.95″ W. (NAD 83).
7.16 Village of Asharoken Fireworks | • Date: A day during the first two weeks of July.
| • Time (Approximate): 8:30 p.m. to 10:00 p.m.
| • Location: Waters of Northport Bay, Asharoken, NY in approximate position, 41°56′21.2″ N., 073°21′15.14″ W. (NAD 83).
7.17 Village of Port Jefferson Fourth of July Celebration Fireworks | • Date: A day during the first two weeks of July.
| • Time (Approximate): 9:00 p.m. to 10:00 p.m.
| • Location: Waters of Port Jefferson Harbor Port Jefferson, NY in approximate position 40°57′53.19″ N., 073°03′09.72″ W. (NAD 83).
7.18 City of Long Beach Fireworks | • Date: A day in the second or third week of July.
| • Time (Approximate): 9:00 p.m. to 10:00 p.m.
| • Location: Waters off Riverside Blvd, City of Long Beach, NY in approximate position 40°34′38.77″ N., 073°39′41.32″ W. (NAD 83).
7.19 Mashantucket Pequot Fireworks | • Date: A day in the second or third week of July.
| • Time (Approximate): 9:00 p.m. to 10:00 p.m.
| • Location: Waters of the Thames River New London, CT in approximate position 41°21′03.03″ N., 072°5′24.5″ W.
7.20 Shelter Island Fireworks | • Date: A day in the second or third week of July.
| • Time (Approximate): 9:30 p.m. to 10:30 p.m.
| • Location: Waters of Gardiner Bay, Shelter Island, NY in approximate position 41°04′39.11″ N., 072°22′01.07″ W. (NAD 83).
7.21 Groton Long Point Yacht Club Fireworks | • Date: A day in the second or third week of July.
| • Time (Approximate): 9:30 p.m. to 10:00 p.m.
| • Location: Waters of Long Island Sound, Groton, CT in approximate position 41°18′37″ N., 072°00′56″ W. (NAD 83).
7.22 Devon Yacht Club Fireworks | • Date: A day during the first two weeks of July.
| • Time (Approximate): 9:00 p.m. to 10:00 p.m.
| • Location: Waters of Napeague Bay, in Block Island Sound off Amagansett, NY in approximate position 40°59′41.4″ N., 072°06′08.70″ W. (NAD 83).
7.23 Friar's Head Golf Club Fireworks | • Date: A day during the first two weeks of July.
| • Time (Approximate): 9:00 p.m. to 10:00 p.m.
| • Location: Waters of Long Island Sound off Baiting Hollow, NY in approximate position, 40°58′19.53″ N., 072°43′45.65″ W. (NAD 83).
7.24 Islip Fireworks | • Date: A day during the first two weeks of July.
| • Time (Approximate): 9:30 p.m. to 10:00 p.m.
| • Location: Waters of the Great South Bay off Bay Shore Manor Park, Islip, NY in approximate position 40°42′24″ N., 073°14′24″ W. (NAD 83).
7.25 Madison Fireworks | • Date: A day during the first two weeks of July.
| • Time (Approximate): 9:30 p.m. to 10:00 p.m.
| • Location: Waters of Long Island Sound off Madison Beach, Madison, CT in approximate position 41°16′03.93″ N., 072°36′15.97″ W. (NAD 83).
7.26 Stratford Fireworks | • Date: A day during the first two weeks of July.
| • Time (Approximate): 9:00 p.m. to 10:00 p.m.
| • Location: Waters of Long Island Sound surrounding Short Beach Park, Stratford, CT in approximate position 41°09′50.82″ N., 073°06′47.13″ W. (NAD 83).
7.27 Rowayton Fireworks | • Date: A day during the first two weeks of July.
| • Time (Approximate): 9:30 p.m. to 10:00 p.m.
| • Location: Waters of Long Island Sound south of Bayley Beach Park in Rowayton, CT in approximate position 41°03′11″ N., 073°26′41″ W. (NAD 83).
7.28 Connetquot River Summer Fireworks | • Date: A day during the first two weeks of July.
| • Time (Approximate): 9:30 p.m. to 10:30 p.m.
| • Location: Waters of the Connetquot River off Snapper Inn Restaurant, Oakdale, NY in approximate position 40°43′30.03″ N., 073°08′40.25″ W. (NAD 83).
7.29 Sebonack Golf Club Links Fireworks | • Date: A day during the first two weeks of July.
| • Time (Approximate): 9:30 p.m. to 10:00 p.m.
| • Location: Waters of the Great Peconic Bay, approximately 3/4 of a mile northwest of Bullhead Bay, Shinnecock, NY in approximate position 40°55′11.79″ N., 072°28′04.34″ W. (NAD 83).
7.30 Bridgeport Bluefish July Fireworks | • Date: A day in July determined annually.
| • Rain Date: A day in July determined annually.
| • Time (Approximate): 9:00 p.m. to 10:00 p.m.
| • Location: Waters of the Pequannock River's Lower Reach surrounding Steel Point in Bridgeport, CT in approximate position 41°10′35″ N., 073°10′58″ W. (NAD 83).
8 | August
8.1 Old Black Point Beach Association Fireworks | • Date: A day in August determined annually.
| • Time (Approximate): 8:00 p.m. to 11:00 p.m.
| • Location: Waters off Old Black Point Beach East Lyme, CT in approximate position, 41°17′34.9″ N., 072°12′55″ W. (NAD 83).
8.2 Town of Babylon Fireworks | • Date: A day in August determined annually.
| • Time (Approximate): 8:30 p.m. to 10:00 p.m.
| • Location: Waters off of Cedar Beach Town Park, Babylon, NY in approximate position 40°37′53″ N., 073°20′12″ W. (NAD 83).
8.3 Stamford Fireworks | • Date: A day between the last week of August and the first week of September.
| • Rain date: The last Sunday of August.
| • Time (Approximate): 8:00 p.m. to 9:30 p.m.
| • Location: Waters of Stamford Harbor, off Kosciuszco Park, Stamford, CT in approximate position 41°01′48.46″ N., 073°32′15.32″ W. (NAD 83).
8.4 Ascension Fireworks | • Date: A day during the third or fourth weekend of August.
| • Time (Approximate): 8:30 p.m. to 10:30 p.m.
| • Location: Waters of the Great South Bay off The Pines, East Fire Island, NY in approximate position 40°40′10″ N., 073°04′12″ W. (NAD 83).
8.5 Bridgeport Bluefish August Fireworks | • Date: A day in August determined annually.
| • Rain Date: A day in August determined annually.
| • Time (Approximate): 9:00 p.m. to 10:00 p.m.
| • Location: Waters of the Pequannock River's Lower Reach surrounding Steel Point in Bridgeport, CT in approximate position 41°10′35″ N., 073°10′58″ W. (NAD 83).
9 | September
9.1 East Hampton Fire Department Fireworks | • Date: A day between the last week of August and the first week of September
| • Time (Approximate): 9:00 p.m. to 10:00 p.m.
| • Location: Waters off Main Beach, East Hampton, NY in approximate position 40°56′42″ N., 072°11′22″ W. (NAD 83).
9.2 Village of Island Park Labor Day Celebration Fireworks | • Date: A day between the last week of August and the first week of September
| • Time (Approximate): 9:00 p.m. to 10:00 p.m.
| • Location: Waters off Village of Island Park Fishing Pier, Village Beach, NY in approximate position 40°36′30.95″ N., 073°39′22.23″ W. (NAD 83).
9.3 The Creek Fireworks | • Date: A day between the last week of August and the first week of September.
| • Time (Approximate): 8:00 p.m. to 9:00 p.m.
| • Location: Waters of Long Island Sound off the Creek Golf Course, Lattingtown, NY in approximate position 40°54′13″ N., 073°35′58″ W. (NAD 83).
9.4 Bridgeport Bluefish September Fireworks | • Date: A day in September determined annually.
| • Rain Date: A day in September determined annually.
| • Time (Approximate): 9:00 p.m. to 10:00 p.m.
| • Location: Waters of the Pequannock River's Lower Reach surrounding Steel Point in Bridgeport, CT in approximate position 41°10′35″ N., 073°10′58″ W. (NAD 83).
11 | November
11.1 Christmas Boat Parade Fireworks | • Date: A day during the third or fourth weekend in November.
| • Time (Approximate): 5:30 p.m. to 6:30 p.m.
| • Location: Waters of Patchogue Bay off “Lombardi's on the Bay” restaurant Patchogue, NY in approximate positions:
| • Barge 1: 41°45′25.78″ N., 073°01′06.5″ W. (NAD 83).
| • Barge 2: 41°45′12.88″ N., 073°01′04.2″ W. (NAD 83).
| • Barge 3: 41°44′58.18″ N., 073°01′2.66″ W. (NAD 83).
11.2 Connetquot River Fall Fireworks | • Date: A day during the last weekend of November.
| • Time (Approximate): 7:00 p.m. to 7:30 p.m.
| • Location: Waters of the Connetquot River off Snapper Inn Restaurant, Oakdale, NY in approximate position 40°43′32.38″ N., 073°09′02.64″ W. (NAD 83).

Dated: April 19, 2016.
E.J. Cubanski, III,
Captain, U.S. Coast Guard, Captain of the Port Sector Long Island Sound.

[FR Doc. 2016-12001 Filed 5-23-16; 8:45 am]

BILLING CODE 9110-04-P